DEPARTMENT OF TRANSPORTATION

Federal Transit Administration

Proposed Program Guidance Circulars

[Docket Nos. FTA-2007-29126, FTA-2007-29122, FTA-2007-29123, FTA-2007-29125]

AGENCY: Federal Transit Administration (FTA), DOT.

ACTION: Proposed Program Guidance Circulars; Extension of Comment Periods.

SUMMARY: On September 28, 2007, the Federal Transit Administration (FTA) published notices seeking comment on four program guidance circulars—the Metropolitan Planning Program and State Planning and Research Program Grants; the Capital Investment Program; the Grant Management Requirements; and Third Party Contracting. This document extends the comment periods of each of these notices. The reasons for extending the comment period are three-fold. First, the FTA wants to stagger the comment period so the public has more time to provide meaningful comments, which in turn will result in better guidance for our customers. Second, FTA currently has a major rulemaking out for comment, which may create hardship on those wishing to comment on circulars as well as the rulemaking. Finally, DOT had some difficulty migrating from the USDOT docket system to the Federal Government's new E-rulemaking portal, which has caused some confusion among commenters.

DATES: The new comment periods are as follows:

• Metropolitan Planning Program and State Planning and Research Program Grants (Docket No. FTA-2007-29126)—the comment period ends November 30, 2007.

• Grant Management Requirements (Docket No. FTA-2007-29122)—the comment period ends January 4, 2008.

• Capital Investment Program (Docket No. FTA-2007-29123)—the comment period ends January 25, 2008.

• Third Party Contracting (Docket No. FTA-2007-29125)—the comment period ends February 15, 2008.

ADDRESSES: To ensure your comments are not entered more than once into the docket, submit comments identified by the appropriate docket number by only one of the following methods:

1. Web site: www.regulations.gov. Follow the instructions for submitting comments on the U.S. Government electronic docket site. All electronic submissions must be made to the U.S. Government electronic site at www.regulations.gov. Commenters should follow the instructions below for mailed and hand-delivered comments.

2. Fax: 202-493-2251.

3. Mail: U.S. Department of Transportation, 1200 New Jersey Avenue, SE., Docket Operations, M-30, West Building, Ground Floor, Room W12-140, Washington, DC 20590-0001, between 9 a.m. and 5 p.m., Monday through Friday, except Federal holidays.

4. Hand-Delivery: To the Docket Management Facility: U.S. Department of Transportation, Docket Operations, M-30, West Building, Ground Floor, Room W12-140, 1200 New Jersey Avenue, SE., Washington, DC 20590, between 9 a.m. and 5 p.m., Monday through Fridays, except Federal holidays.

FOR FURTHER INFORMATION CONTACT: For the Metropolitan Planning Docket contact Victor Austin at 202-366-2996 or e-mail at victor.austin@dot.gov, or Christopher VanWyk by phone at 202-366-1733 or e-mail at christopher.vanwyk@dot.gov. For the Grant Management Requirements Docket contact Jamie Pfister at 404-865-5632 or e-mail at jamie.pfister@dot.gov, or Jayme Blakesley at 202-366-0304 or e-mail at jayme.blakesley@dot.gov. For the Capital Investment Program Docket contact Kimberly Sledge at 202-366-2053 or e-mail at kimberly.sledge@dot.gov, or Bonnie Graves at 202-366-0944 or e-mail at bonnie.graves@dot.gov. For the Third Party Contracting Docket contact James Harper at 202-366-1127 or e-mail at james.harper@dot.gov, or Kerry Miller at 202-366-1936 or e-mail at kerry.miller@dot.gov.

SUPPLEMENTARY INFORMATION: On September 28, 2007, FTA published four separate notices (72 FR 55624 @ Part III) seeking public comment on proposed guidance relating to the Metropolitan Planning Program and State Planning and Research Program Grants (8100.1B); the Capital Investment Program (9300.1A); the Grant Management Requirements (5010.1D); and Third Party Contracting (4220.1E). The proposed guidance or circular revisions are a product of changes made by the Safe, Accountable, Flexible, Efficient Transportation Equity Act: A Legacy for Users (SAFETEA-LU, Pub. L. 109-59), signed into law on August 10, 2005. The circulars themselves are not contained in the notices but rather in the docket(s) @ www.regulations.gov under the specific docket numbers indicated above.

FTA has determined that there is good cause to extend the comment periods to allow for more time to provide meaningful comments on the proposed circulars, which will result in better guidance for our customers.

Issued in Washington, DC, this 26th day of October, 2007.
James S. Simpson,
Administrator.

[FR Doc. E7-21462 Filed 10-30-07; 8:45 am]

BILLING CODE 4910-57-P